NUCLEAR REGULATORY COMMISSION

[NRC-2020-0026]

Standard Format and Content of License Applications for Receipt and Storage of Unirradiated Power Reactor Fuel and Associated Radioactive Material at a Nuclear Power Plant

AGENCY: Nuclear Regulatory Commission.

ACTION: Regulatory guide; issuance.

SUMMARY: The U.S. Nuclear Regulatory Commission (NRC) is issuing Revision 2 to Regulatory Guide (RG) 3.15, “Standard Format and Content of License Applications for Receipt and Storage of Unirradiated Power Reactor Fuel and Associated Radioactive Material at a Nuclear Power Plant.” RG 3.15 describes the standard format and content that the NRC staff considers acceptable for license applications to authorize the receipt, possession, and storage of unirradiated fuel assemblies and associated radioactive materials at a nuclear power plant.

DATES: Revision 2 to RG 3.15 is available on August 7, 2020.

ADDRESSES: Please refer to Docket ID NRC-2020-0026 when contacting the NRC about the availability of information regarding this document. You may obtain publicly available information related to this document using any of the following methods:

• Federal Rulemaking Website: Go to https://www.regulations.gov and search for Docket ID NRC-2020-0026. Address questions about NRC docket IDs in Regulations.gov to Jennifer Borges; telephone: 301-287-9127; email: Jennifer.Borges@nrc.gov. For technical questions, contact the individual(s) listed in the FOR FURTHER INFORMATION CONTACT section of this document.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room reference staff at 1-800-397-4209, 301-415-4737, or by email to pdr.resource@nrc.gov. Revision 2 to RG 3.15 and the Regulatory Analysis may be found in ADAMS under Accession Nos. ML20164A212 and ML14161A624, respectively.

Regulatory guides are not copyrighted, and NRC approval is not required to reproduce them.

FOR FURTHER INFORMATION CONTACT: Kevin Ramsey, Office of Nuclear Materials Safety and Safeguards, telephone: 301-415-7506, email: Kevin.Ramsey@nrc.gov, and Edward O'Donnell, Office of Nuclear Regulatory Research, telephone: 301-415-3317, email: Edward.ODonnell@nrc.gov. Both are staff of the U.S. Nuclear Regulatory Commission, Washington, DC 20555-0001.

SUPPLEMENTARY INFORMATION:

I. Discussion

The NRC is issuing a revision to an existing guide in the NRC's “Regulatory Guide” series. This series was developed to describe and make available to the public information regarding methods that are acceptable to the NRC staff for implementing specific parts of the agency's regulations, techniques that the NRC staff uses in evaluating specific issues or postulated events, and data that the NRC staff needs in its review of applications for permits and licenses.

Revision 2 of RG 3.15 was issued with a temporary identification of Draft Regulatory Guide (DG)-3036. It describes the standard format and content that the NRC staff considers acceptable for license applications to authorize the receipt, possession, and storage of unirradiated fuel assemblies and associated radioactive materials at a nuclear power plant.

II. Additional Information

The NRC published a notice of the availability of DG-3036 in the Federal Register on February 19, 2020 (85 FR 9487) for a 60-day public comment period. The public comment period closed on April 20, 2020. Two comments were received but they resulted in no changes in the technical content of the guide. Public comments on DG-3036 and the staff responses to the public comments are available under ADAMS Accession No. ML20164A213.

III. Congressional Review Act

This RG is a rule as defined in the Congressional Review Act (5 U.S.C. 801-808). However, the Office of Management and Budget has not found it to be a major rule as defined in the Congressional Review Act.

IV. Backfitting, Forward Fitting, and Issue Finality

Issuance of Revision 2 of RG 3.15 does not constitute backfitting as defined in title 10 of the Code of Federal Regulations (10 CFR) section 50.109, “Backfitting,” and as described in NRC Management Directive (MD) 8.4, “Management of Backfitting, Forward Fitting, Issue Finality, and Information Requests”; constitute forward fitting as that term is defined and described in MD 8.4; or affect the issue finality of any approval issued under 10 CFR part 52, “Licenses, Certificates, and Approvals for Nuclear Powerplants.” As explained in the RG, licensees are not required to comply with the positions set forth in Revision 2 of RG 3.15.

Dated: August 4, 2020.
For the Nuclear Regulatory Commission.
Harriet Karagiannis,
Acting Chief, Regulatory Guidance and Generic Issues Branch, Division of Engineering, Office of Nuclear Regulatory Research.

[FR Doc. 2020-17304 Filed 8-6-20; 8:45 am]

BILLING CODE 7590-01-P